DEPARTMENT OF HOUSING AND URBAN DEVELOPMENT

[Docket No. FR-5186-N-26]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COAST GUARD: Commandant, United States Coast Guard, Attn: Teresa Sheinberg, 2100 Second St., SW., Rm 6109, Washington, DC 20593-0001; (202) 267-6142; ENERGY: Mr. Mark Price, Department of Energy, Office of Engineering & Construction Management, MA-50, 1000 Independence Ave., SW., Washington, DC 20585: (202) 586-5422; GSA: Mr. John Smith, Deputy Assistant Commissioner, General Services Administration, Office of Property Disposal, 18th & F Streets, NW., Washington, DC 20405; (202) 501-0084; NAVY: Mrs. Mary Arndt, Acting Director, Department of the Navy, Real Estate Services, Naval Facilities Engineering Command, Washington Navy Yard, 1322 Patterson Ave., SE., Suite 1000, Washington, DC 20374-5065; (202) 685-9305; (These are not toll-free numbers.)

Dated: June 19, 2008.
Mark R. Johnston,
Deputy Assistant Secretary for Special Needs.

Title V, Federal Surplus Property Program Federal Register Report for 06/27/2008

Suitable/Available Properties

Building

Arizona

Water Conservation Lab

4331 E. Broadway Rd.

Phoenix AZ 85040

Landholding Agency: GSA

Property Number: 54200820013

Status: Excess

GSA Number: 9-A-AZ-846-1

Comments: 11365 sq. ft. main bldg w/11 additional bldgs. & 66 paved parking spaces, easement restrictions, zoning issue

North Dakota

Facility F-O

Foxtrot

Grand Forks ND

Landholding Agency: GSA

Property Number: 54200820015

Status: Surplus

GSA Number: 7-D-ND-0500

Comments: 5850 sq. ft. facility, asbestos/PCB's/lead based paint, restrictions and covenants

Suitable/Available Properties

Building

Oklahoma

Maintenance Site

Rt. 1

Tupelo OK 74572

Landholding Agency: GSA

Property Number: 54200820016

Status: Excess

GSA Number: 7-GR-OK-0574

Comments: Office/garage/storage, easement restrictions

Land

Texas

FAA Outer Marker 18 R/L VYN

1420 Lakeside Pkwy

Flower Mound TX 75028

Landholding Agency: GSA

Property Number: 54200820017

Status: Surplus

GSA Number: 7-U-TX-1090

Comments: 1.428 acres, radar facility

FAA Outer Marker 31R RAA

1600 Cooper Drive

Irving TX 75061

Landholding Agency: GSA

Property Number: 54200820018

Status: Surplus

GSA Number: 7-U-TX-1095

Comments: 0.305 acre, radar facility

Suitable/Available Properties

Land

Texas

FAA Outer Marker 35R AJQ

300 W. Shady Grove

Grand Prairie TX 75050

Landholding Agency: GSA

Property Number: 54200820019

Status: Surplus

GSA Number: 7-U-TX-1094

Comments: 0.674 acre, radar facility

Unsuitable Properties

Building

California

Bldg. 19

USCG Integrated Sup Comm

San Pedro CA 90731

Landholding Agency: Coast Guard

Property Number: 88200820004

Status: Unutilized

Reasons: Extensive deterioration

Unsuitable Properties

Building

Hawaii

Bldg. 1981

Naval Station

Pearl Harbor HI 96860

Landholding Agency: Navy

Property Number: 77200820038

Status: Unutilized

Reasons: Extensive deterioration

Bldg. 17

Naval Station

Pearl Harbor HI 96860

Landholding Agency: Navy

Property Number: 77200820039

Status: Excess

Reasons: Extensive deterioration

Bldg. 88

Naval Station

Ford Island

Pearl Harbor HI 96860

Landholding Agency: Navy

Property Number: 77200820040

Status: Excess

Reasons: Extensive deterioration

Unsuitable Properties

Building

Idaho

RCLR Facility

State Hwy 69

Meridian ID 83704

Landholding Agency: GSA

Property Number: 54200820014

Status: Excess

GSA Number: 9-U-ID-566

Reasons: Within 2000 ft. of flammable or explosive material

Illinois

Bldg. 40

Argonne National Lab

DuPage IL 60439

Landholding Agency: Energy

Property Number: 41200820007

Status: Excess

Reasons: Contamination; Secured Area

Rhode Island

Bldgs. 348, 85CHI

Naval Station

Newport RI

Landholding Agency: Navy

Property Number: 77200820043

Status: Unutilized

Reasons: Secured Area

Unsuitable Properties

Building

Rhode Island

Facility 670

Naval Station

Harbor Island

Newport RI 02841

Landholding Agency: Navy

Property Number: 77200820044

Status: Excess

Reasons: Extensive deterioration; Secured Area

Land

North Carolina

0.23 acres/French Creek

Marine Corps Base

Camp Lejeune NC

Landholding Agency: Navy

Property Number: 77200820041

Status: Underutilized

Reasons: Secured Area

0.23 acres/Onslow Beach

Marine Corps Base

Camp Lejeune NC

Landholding Agency: Navy

Property Number: 77200820042

Status: Underutilized

Reasons: Secured Area

Unsuitable Properties

Land

Virginia

FAA Outer Marker 19R

Norman's Station Rd.

Chantilly VA 20151

Landholding Agency: GSA

Property Number: 54200820020

Status: Surplus

GSA Number: 11-VA-1103AA

Reasons: Within airport runway clear zone; Within 2000 ft. of flammable or explosive material

[FR Doc. E8-14290 Filed 6-26-08; 8:45 am]

BILLING CODE 4210-67-P